DEPARTMENT OF TRANSPORTATION

Federal Aviation Administration

14 CFR Part 39

[Docket No. FAA-2011-0836; Directorate Identifier 2010-NE-38-AD]

RIN 2120-AA64

Airworthiness Directives; Rolls-Royce plc (RR) Trent 800 Series Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Fuel leaks from the engine have occurred in-service due to damage to sections of the fan case Low Pressure (LP) fuel tubes which run between the Low Pressure and the High Pressure (HP) fuel pumps. This damage has been caused by frettage between the securing clips and the tube outer surface, which has caused localised thinning of the tube wall thickness. The thinning of the tube wall causes the tube to fracture and fuel loss to occur.

We are proposing this AD to prevent engine fuel leaks, which could result in risk to the airplane.

DATES: We must receive comments on this proposed AD by October 6, 2011.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

For service information identified in this AD, contact Rolls-Royce plc, P.O. Box 31, Derby, DE24 8BJ, United Kingdom: telephone 44 (0) 1332 242424; fax 44 (0) 1332 249936.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone (800) 647-5527) is the same as the Mail address provided in the ADDRESSES section. Comments will be available in the AD docket shortly after receipt.

FOR FURTHER INFORMATION CONTACT: Alan Strom, Aerospace Engineer, Engine Certification Office, FAA, Engine & Propeller Directorate, 12 New England Executive Park, Burlington, MA 01803; e-mail: alan.strom@faa.gov; telephone (781) 238-7143; fax (781) 238-7199.

SUPPLEMENTARY INFORMATION:

Comments Invited

We invite you to send any written relevant data, views, or arguments about this proposed AD. Send your comments to an address listed under the ADDRESSES section. Include “Docket No. FAA-2011-0836; Directorate Identifier 2010-NE-38-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2010-0188, dated September 20, 2010 (referred to after this as “the MCAI”), to correct an unsafe condition for the specified products. The MCAI states:

Fuel leaks from the engine have occurred in-service due to damage to sections of the fan case Low Pressure (LP) fuel tubes which run between the Low Pressure and the High Pressure (HP) fuel pumps. This damage has been caused by frettage between the securing clips and the tube outer surface, which has caused localised thinning of the tube wall thickness. The thinning of the tube wall causes the tube to fracture and fuel loss to occur.

This AD requires inspection and, if necessary, replacement of fan case LP fuel tubes and clips.

Relevant Service Information

Rolls-Royce plc has issued Alert Service Bulletin RB.211-73-AD685, Revision 5, dated August 18, 2010. The actions described in this service information are intended to correct the unsafe condition identified in the MCAI.

FAA's Determination and Requirements of this Proposed AD

This product has been approved by the aviation authority of the United Kingdom, and is approved for operation in the United States. Pursuant to our bilateral agreement with the United Kingdom, they have notified us of the unsafe condition described in the MCAI and service information referenced above. We are proposing this AD because we evaluated all information provided by EASA and determined the unsafe condition exists and is likely to exist or develop on other products of the same type design.

Costs of Compliance

We estimate that this proposed AD would affect about 110 products of U.S. registry. We also estimate that it would take about 3 work-hours per product to comply with this proposed AD. The average labor rate is $85 per work-hour. Required parts would cost about $225 per product. Based on these figures, we estimate the cost of the proposed AD on U.S. operators to be $52,800.

Authority for this Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

(3) Will not affect intrastate aviation in Alaska, and

(4) Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce plc: Docket No. FAA-2011-0836; Directorate Identifier 2010-NE-38-AD.

Comments Due Date

(a) We must receive comments by October 6, 2011.

Affected Airworthiness Directives (ADs)

(b) None.

Applicability

(c) This AD applies to Rolls-Royce plc (RR) Trent 875-17, 877-17, 884-17, 884B-17, 892-17, 892B-17, and 895-17 turbofan engines. These engines are installed on, but not limited to, Boeing 777 series airplanes.

Reason

(d) This AD results from:

Fuel leaks from the engine have occurred in-service due to damage to sections of the fan case Low Pressure (LP) fuel tubes which run between the Low Pressure and the High Pressure (HP) fuel pumps. This damage has been caused by frettage between the securing clips and the tube outer surface, which has caused localised thinning of the tube wall thickness. The thinning of the tube wall causes the tube to fracture and fuel loss to occur.

We are issuing this AD to prevent engine fuel leaks, which could result in risk to the airplane.

Actions and Compliance

(e) Unless already done, do the following actions.

Initial Inspection

(f) Within 2,000 hours in service after the effective date of this AD, or before accumulating 3,000 hours-since-new or 3,000 hours-since-last inspection, whichever is latest, do one of the following:

On-wing Inspection

(1) Inspect the fan case LP fuel tubes (Part Numbers (P/N) FK22617, FK19213 and FK23986) and the clips that hold the fuel tubes in place. Use paragraphs 3.A.(2) and 3.A.(3) (On-wing) of RR Non-Modification Service Bulletin (NMSB) RB.211-73-D685, Revision 5, dated August 18, 2010, or

In-shop Inspection

(2) Inspect the fan case LP fuel tubes (P/N FK22617, FK19213 and FK23986) and the clips that hold the fuel tubes in place. Use paragraphs 3.B.(2) and 3.B.(3) (In-shop) of RR NMSB RB.211-73-D685, Revision 5, dated August 18, 2010.

Repetitive Inspection

(g) Following accomplishment of the initial inspection in compliance with the requirements of paragraph (f)(1) or (f)(2) of this AD, repeat the inspection at intervals not exceeding 3,000 hours, and, if necessary, replace the fan case LP fuel tubes (P/N FK22617, FK19213 and FK23986) and the clips that hold the fuel tubes in place. Use paragraphs 3.A.(2) and 3.A.(3) (On-wing) or 3.B.(2) and 3.B.(3) (In-shop) of RR NMSB RB.211-73-D685, Revision 5, dated August 18, 2010.

FAA AD Differences

(h) None.

Alternative Methods of Compliance (AMOCs)

(i) The Manager, Engine Certification Office, FAA, has the authority to approve AMOCs for this AD, if requested using the procedures found in 14 CFR 39.19.

Related Information

(j) Refer to Mandatory Continuing Airworthiness Information European Aviation Safety Agency (EASA) Airworthiness Directive 2010-0188, dated September 20, 2010, and Rolls-Royce plc Alert Service Bulletin RB.211-73-AD685, Revision 5, dated August 18, 2010, for related information. Contact Rolls-Royce plc, P.O. Box 31, Derby, DE24 8BJ, United Kingdom: telephone 44 (0) 1332 242424; fax 44 (0) 1332 249936, for a copy of this service information.

(k) Contact Alan Strom, Aerospace Engineer, Engine Certification Office, FAA, Engine & Propeller Directorate, 12 New England Executive Park, Burlington, MA 01803; e-mail: alan.strom@faa.gov; telephone (781) 238-7143; fax (781) 238-7199, for more information about this AD.

Issued in Burlington, Massachusetts, on August 5, 2011.
Peter A. White,
Acting Manager, Engine and Propeller Directorate, Aircraft Certification Service.

[FR Doc. 2011-21311 Filed 8-19-11; 8:45 am]

BILLING CODE 4910-13-P